DEPARTMENT OF HOMELAND SECURITY

Coast Guard

33 CFR Part 165

[Docket No. USCG-2015-0854]

Special Local Regulations and Safety Zones; Recurring Marine Events and Fireworks Displays Within the Fifth Coast Guard District

AGENCY: Coast Guard, DHS.

ACTION: Notice of enforcement of regulation.

SUMMARY: The Coast Guard will enforce a safety zone for the fireworks display taking place on the Chesapeake Bay near Chesapeake Beach, MD on July 1, 2016. This is a change from the annually scheduled event on July 3, 2016, as indicated in 33 CFR 165.506. This action is necessary to ensure safety of life on navigable waters during this event. Our regulation for Recurring Marine Events within the Fifth Coast Guard District identifies the regulated area for this fireworks display event. During the enforcement period, no person or vessel may enter, transit through, anchor in, or remain within the regulated area without approval from the Captain of the Port or a designated representative.

DATES: The regulations in 33 CFR 165.506, listed as event (b)10, Chesapeake Bay, Chesapeake Beach, MD; Safety Zone, in the Table to 33 CFR 165.506 will be enforced from 8:30 p.m. to 10:30 p.m. on July 1, 2016; and in the case of inclement weather enforcement will be from 8:30 p.m. to 10:30 p.m. on July 3, 2016.

FOR FURTHER INFORMATION CONTACT: If you have questions about this notice of enforcement, call or email Mr. Ron Houck, U.S. Coast Guard Sector Maryland-National Capital Region (WWM Division); telephone 410-576-2674, email Ronald.L.Houck@uscg.mil.

SUPPLEMENTARY INFORMATION: On June 4, 2016, the Coast Guard was notified by the event sponsor that the date of this annual fireworks display was rescheduled to accommodate the weekend dates of the Independence Day Holiday for 2016. The time of the annual fireworks display remains unchanged. The Coast Guard will enforce the safety zone in 33 CFR 165.506 from 8:30 p.m. until 10:30 p.m. on July 1, 2016, for the Town of Chesapeake Beach, MD fireworks display. This action is being taken to provide for the safety of life on navigable waterways during this event. Our regulation for Recurring Marine Events within the Fifth Coast Guard District, § 165.506, specifies the location of the regulated area for this safety zone as two circular shaped areas that include all waters of the Chesapeake Bay, within a 150 yard radius of the fireworks barge at latitude 38°41′36″ N., longitude 076°31′30″ W. and a 150 yard radius of the fireworks barge at latitude 38°41′28″ N., longitude 076°31′29″ W., located near Chesapeake Beach, Maryland. As specified in § 165.506(d), during the enforcement period, no vessel may not enter, remain in, or transit through the safety zone without approval from the Captain of the Port (COTP) or a COTP designated representative. The Coast Guard may be assisted by other Federal, state or local law enforcement agencies in enforcing this regulation. If the COTP or his designated on-scene Patrol Commander determines the regulated area need not be enforced for the full duration stated in this notice, a Broadcast Notice to Mariners may be used to grant general permission to enter the regulated area.

This notice of enforcement is issued under authority of 33 CFR 165.506 (d) and 5 U.S.C. 552 (a). In addition to this notice of enforcement in the Federal Register, the Coast Guard will provide notification of this enforcement period via the Local Notice to Mariners and marine information broadcasts.

Dated: June 15, 2016.
Michael W. Batchelder,
Commander, U.S. Coast Guard, Acting Captain of the Port Maryland-National Capital Region.

[FR Doc. 2016-15330 Filed 6-27-16; 8:45 am]

BILLING CODE 9110-04-P